OFFICE OF PERSONNEL MANAGEMENT

Public Availability of FY 2012 Service Contract Inventories

AGENCY: U.S. Office of Personnel Management.

ACTION: Notice.

SUMMARY: In accordance with Section 743 of Division C of the Consolidated Appropriations Act of 2010 (Pub. L. 111-117), the Office of Personnel Management (OPM) is publishing this notice to advise the public of the availability of the FY 2012 Service Contract Inventory. The information is organized by function to show how contracted resources are distributed throughout the agency. The inventory has been developed in accordance with guidance issued on November 5, 2010, by the Office of Management and Budget's Office of Federal Procurement Policy (OFPP). OFPP's guidance is available at http://www.whitehouse.gov/sites/default/files/omb/procurement/memo/service-contract-inventories-guidance-11052010.pdf. OPM has posted its inventory and a summary of the inventory on the OPM homepage at the following link: http://www.opm.gov/about-us/doing-business-with-opm/contracting-opportunities/#url=Business-Opportunities.

FOR FURTHER INFORMATION CONTACT: William Curto at (202) 606-1584 or by mail at U.S. Office of Personnel Management, 1900 E Street NW., Washington, DC 20415. Please cite “2012 Service Contract Inventory” in all correspondence.

U.S. Office of Personnel Management.
Elaine Kaplan,
Acting Director.

[FR Doc. 2013-14057 Filed 6-12-13; 8:45 am]

BILLING CODE 6325-44-P